DEPARTMENT OF ENERGY

Federal Energy Regulatory Commission

Notice of Commission Staff Attendance

The Federal Energy Regulatory Commission (Commission) hereby gives notice that members of the Commission's staff may attend the following meetings related to the transmission planning activities of Tucson Electric Power Company, UNS Electric, Inc., Public Service Company of New Mexico, Arizona Public Service Company, El Paso Electric Company, Black Hills Power, Inc., Black Hills Colorado Electric Utility Company, LP, Cheyenne Light, Fuel, & Power Company, NV Energy, Inc., and Xcel Energy Services, Inc. on behalf of Public Service Company of Colorado:

Planning Management Committee Meeting

January 18, 2017, 9 a.m.-3 p.m. (MST)

Regional Stakeholder Meeting

February 16, 2017, 9 a.m.-4 p.m. (MST)

The Planning Management Committee Meeting will be held at: Ocotillo Training Center, 1701 E. Rio Salado Pkwy., Tempe, AZ 85281.

The Regional Stakeholder Meeting will be held at: SRP PERA Club, 1 E. Continental Drive Tempe, Arizona 85281.

The above-referenced meetings will be available via web conference and teleconference.

The above-referenced meetings are open to stakeholders.

Further information may be found at http://www.westconnect.com/.

The discussions at the meetings described above may address matters at issue in the following proceeding:

ER13-75, Public Service Company of New Mexico; El Paso Electric Company

For more information contact Nicole Cramer, Office of Energy Market Regulation, Federal Energy Regulatory Commission at (202) 502-6775 or nicole.cramer@ferc.gov.

Dated: January 11, 2017.
Kimberly D. Bose,
Secretary.

[FR Doc. 2017-00996 Filed 1-17-17; 8:45 am]

BILLING CODE 6717-01-P